DEPARTMENT OF COMMERCE

International Trade Administration

Northwestern University, Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 03-005. Applicant: Northwestern University, Chicago, IL 60637. Instrument: MSM System Series 300 Yeast Manipulator and Micro Zapper. Manufacturer: Singer Instrument Company Limited, United Kingdom. Intended Use: See notice at 68 FR 8210, February 20, 2003.

Comments: None received. Decision: Approved. No instrument of equivalent scientific value to the foreign instrument, for such purposes as it is intended to be used, is being manufactured in the United States. Reasons: The foreign instrument provides a complete computer-controlled workstation for micromanipulation in yeast genetics by performing tetrad dissection, pedigree analysis, cell and zygote isolation, cell progression and other automated functions. The National Institutes of Health advises in its memorandum of February 26, 2003, that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-8240 Filed 4-3-03; 8:45 am]

BILLING CODE 3510-DS-P